DEPARTMENT OF JUSTICE

[OMB Number 1105-0052]

Agency Information Collection Activities: Proposed Collection; Comments Requested; Extension of a Currently Approved Information Collection; Claims Filed Under the Radiation Exposure Compensation Act (RECA)

ACTION: 30-Day Notice of Information Collection under Review.

The Department of Justice (DOJ), Civil Division, will be submitting the following information collection request to the Office of Management and Budget (OMB) for review and approval in accordance with the Paperwork Reduction Act of 1995. The proposed information collection is published to obtain comments from the public and affected agencies. This proposed information collection was previously published in the Federal Register Volume 76, Number 148, page 46324 on August 2, 2011, allowing for a 60 day comment period.

The purpose of this notice is to allow for an additional 30 days for public comment November 7, 2011. This process is conducted in accordance with 5 CFR 1320.10.

Written comments and/or suggestions regarding the items contained in this notice, especially the estimated public burden and associated response time, should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Dianne Spellberg at 202-616-4129 or the DOJ Desk Officer at 202-395-3176.

OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: Claims Filed Under the Radiation Exposure Compensation Act (RECA).

(3) Agency form number, if any, and the applicable component of the Department sponsoring the collection: Form Number: N/A. The Civil Division, United States Department of Justice is sponsoring the collection.

(4) Affected public who will be asked or required to respond, as well as a brief abstract: Primary: Individuals or households. Abstract: Information is collected to determine whether an individual is entitled to compensation under the Radiation Exposure Compensation Act.

(5) An estimate of the total number of respondents and the amount of time estimated for an average respondent to respond: It is estimated that 2,000 respondents will complete the form annually within approximately 2.5 hours.

(6) An estimate of the total public burden (in hours) associated with the collection: There are an estimated 5,000 total annual burden hours associated with this collection.

If additional information is required contact: Jerri Murray, Department Clearance Officer, United States Department of Justice, Justice Management Division, Policy and Planning Staff, Two Constitution Square, 145 N Street, NE., Room 2E-508, Washington, DC 20530.

Jerri Murray,
Department Clearance Officer, PRA, United States Department of Justice.

[FR Doc. 2011-25988 Filed 10-6-11; 8:45 am]

BILLING CODE 4410-12-P